ENVIRONMENTAL PROTECTION AGENCY

[FRL-7062-4]

Long Term 2 Enhanced Surface Water Treatment Rule Data System Development Stakeholder Meeting

AGENCY: Environmental Protection Agency.

ACTION: Notice.

SUMMARY: Notice is hereby given that the Environmental Protection Agency (EPA), Office of Ground Water and Drinking Water is holding a public meeting on October 17, 2001, at the Old Town Holiday Inn Select, 480 King Street, Alexandria, VA, 22314, for the purpose of information exchange with stakeholders on issues related to data that would potentially be collected under a future Long Term 2 Enhanced Surface Water Treatment Rule (LT2ESWTR). As part of this meeting, EPA plans to discuss with stakeholders approaches for electronically collecting and maintaining source water monitoring data during implementation of the LT2ESWTR.

DATES: The meeting will be held on Wednesday, October 17, 2001 from 8:30 a.m. until 5:30 p.m.

ADDRESSES: Old Town Holiday Inn Select, 480 King Street, Alexandria, VA, 22314.

FOR FURTHER INFORMATION CONTACT: For more information on the location and times of these meetings or to request an agenda for this meeting please contact Crystal Rodgers of EPA's Office of Ground Water and Drinking Water at (202) 260-0676 or by e-mail at rodgers.crystal@epa.gov.

Dated: September 17, 2001.
Cynthia C. Dougherty,
Director, Office of Ground Water and Drinking Water.

[FR Doc. 01-23601 Filed 9-20-01; 8:45 am]

BILLING CODE 6560-50-P